DEPARTMENT OF HEALTH AND HUMAN SERVICES

Administration for Children and Families

Submission for OMB Review; Youth Empowerment Information, Data Collection, and Exploration on Avoidance of Sex (IDEAS) (New Collection)

AGENCY: Office of Planning, Research, and Evaluation, Administration for Children and Families, HHS.

ACTION: Request for public comment.

SUMMARY: The Office of Planning, Research, and Evaluation (OPRE), Administration for Children and Families (ACF), U.S. Department of Health and Human Services (HHS), proposes survey data collection activities as part of the Youth Empowerment IDEAS study.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following:

Office of Management and Budget, Paperwork Reduction Project, Email: OIRA_SUBMISSION@OMB.EOP.GOV, Attn: Desk Officer for the Administration for Children and Families.

Copies of the proposed collection may be obtained by emailing OPREinfocollection@acf.hhs.gov. Alternatively, copies can also be obtained by writing to the Administration for Children and Families, Office of Planning, Research and Evaluation, 330 C Street SW, Washington, DC 20201, Attn: OPRE Reports Clearance Officer. All requests, emailed or written, should be identified by the title of the information collection.

SUPPLEMENTARY INFORMATION:

Description: OPRE/ACF/HHS proposes data collection activities as part of the Youth Empowerment IDEAS study. The goal of this project is to collect descriptive data that will inform educational topics and strategies for adolescent pregnancy prevention and youth health and well-being. The project will identify messages and themes that are most likely to resonate with youth. The project will inform hypotheses on how to increase the effectiveness of sex education approaches so that more youth avoid the risks associated with teen sex and teen pregnancy rates are reduced. To support these efforts, we seek approval from the Office of Management and Budget to collect survey information from youth and young adults ages 14-24 and of parents of teens ages 14-18 using an online panel that is based on a probability-based sample of the U.S. population. We propose the following data collection instruments:

(1) Parent Survey: We will administer this as a web survey. Information collected through the Parent Survey will be used to report on demographics, the parent-child relationship, parents' attitudes and beliefs about youth sex education and sexual behaviors, and parental knowledge about youth sexual risk-taking.

(2) Youth Survey: We will administer a web survey in two parts to youth ages 14-18. Information collected on Part I of the survey will be used to report on demographics, the parent-child relationship, future aspirations, and attitudes and beliefs about youth sexual behavior. Information collected on Part II of the survey will include knowledge about sexual risk, experience with sex education, and sexual risk behaviors.

(3) Young Adult Survey: We will administer this to young adults ages 19-24 as a web survey. Topics align with the youth survey, but with slight wording changes to reflect the older population.

Respondents: The survey respondents are from an online panel of a probability-based sample of the U.S. population of parents of youth ages 14-18 and their youth ages 14-18 and of young adults ages 19-24.

Annual Burden Estimates
Instrument | Number of respondents (total over request period) | Number of responses per respondent (total over request period) | Avg. burden per response (in hours) | Total burden (in hours) | Annual burden (in hours)
(1) Parent Survey | 1,550 | 1 | .333 | 516 | 172
(2) Part I Youth Survey | 675 | 1 | .333 | 225 | 75
(3) Part II Youth Survey | 590 | 1 | .333 | 197 | 66
(4) Young Adult Survey | 775 | 1 | .583 | 452 | 151

Estimated Total Annual Burden Hours: 464.

(Authority: Sec. 510. [42 U.S.C. 710])

John M. Sweet,
ACF/OPRE Certifying Officer.

[FR Doc. 2020-17680 Filed 8-12-20; 8:45 am]

BILLING CODE 4184-83-P